DEPARTMENT OF THE INTERIOR

Bureau of Indian Affairs

Renewal of Agency Information Collection for the Bureau of Indian Education Adult Education Program; Request for Comments

AGENCIES: Bureau of Indian Affairs, Interior.

ACTION: Notice of submission to OMB.

SUMMARY: In compliance with the Paperwork Reduction Act of 1995, the Bureau of Indian Education (BIE) is submitting to the Office of Management and Budget (OMB) a request for renewal for the collection of information for the Adult Education Program. The information collection is currently authorized by OMB Control Number 1076-0120, which expires December 31, 2011.

DATES: Interested persons are invited to submit comments on or before January 17, 2012.

ADDRESSES: You may submit comments on the information collection to the Desk Officer for the Department of the Interior at the Office of Management and Budget, by facsimile to (202) 395-5806 or you may send an email to: OIRA_DOCKET@omb.eop.gov. Please send a copy of your comments to Brandi Sweet, Bureau of Indian Education, 1849 C Street NW., MS-4141, Washington, DC 20240, fax (202) 208-3312; email: Brandi.Sweet@bie.edu.

FOR FURTHER INFORMATION CONTACT: Brandi Sweet, Bureau of Indian Education, at (202) 208-5504. You may review the ICR online at http://www.reginfo.gov. Follow the instructions to review Department of the Interior collections under review by OMB.

SUPPLEMENTARY INFORMATION:

I. Abstract

The Bureau of Indian Education (BIE) is seeking renewal of the approval for the information collection conducted under 25 CFR part 46 to manage program resources and for fiscal accountability and appropriate direct services documentation. Approval for this collection expires on December 31, 2011. This information includes an annual report form. Minor changes were made to the form and instructions to provide respondents clear and concise instructions consistent with the annual report form. No changes are being made to the approved burden hours for this information collection. BIE published a 60-day notice in the Federal Register on August 23, 2011. (76 FR 52687). No comments were received in response to that notice.

II. Request for Comments

The BIE requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. Approval for this collection expires December 31, 2011. Response to the information collection is required to obtain a benefit.

It is our policy to make all comments available to the public for review at the location listed in the ADDRESSES section during the hours of 9 a.m.—5 p.m., Eastern Time, Monday through Friday except for legal holidays. Before including your address, phone number, email address or other personally identifiable information, be advised that your entire comment—including your personally identifiable information—may be made public at any time. While you may request that we withhold your personally identifiable information, we cannot guarantee that we will be able to do so.

III. Data

OMB Control Number: 1076-0120.

Title: Bureau of Indian Affairs Adult Education Program Annual Report Form.

Brief Description of Collection: Submission of this information allows BIE to manage program resources, for fiscal accountability and appropriate direct services documentation, and to prioritize programs. The information helps manage the resources available to provide education opportunities for adult Indians and Alaska Natives to complete high school graduation requirements and gain new skills and knowledge for self-enhancement.

Type of Review: Extension without change of a currently approved collection.

Respondents: Individuals (Tribal Adult Education Program Administrators).

Number of Respondents: 70 per year, on average.

Total Number of Responses: 70 per year, on average.

Estimated Time per Response: 4 hours.

Estimated Total Annual Cost Burden to Repondents: $200.

Estimated Total Annual Burden Hours: 280.

Dated: December 9, 2011.
Alvin Foster,
Assistant Director for Information Resources.

[FR Doc. 2011-32155 Filed 12-14-11; 8:45 am]

BILLING CODE 4310-4J-P